DEPARTMENT OF HEALTH AND HUMAN SERVICES

National Institutes of Health

National Cancer Institute; Amended Notice of Meeting

Notice is hereby given of a change in the meeting of the Subcommittee I—Career Development, June 28, 2011, 8 a.m. to June 29, 2011, 6 p.m., Hilton Alexandria Old Town, 1767 King Street, Alexandria, VA 22314 which was published in the Federal Register on May 16, 2011, 76 FR 28238.

This notice is amending the meeting from two days to one day. The meeting dates have been changed from June 28-29, 2011 to June 28, 2011 from 8 a.m. to 6 p.m. The meeting is closed to the public.

Dated: May 25, 2011.
Jennifer S. Spaeth,
Director, Office of Federal Advisory Committee Policy.

[FR Doc. 2011-13540 Filed 5-31-11; 8:45 am]

BILLING CODE 4140-01-P